FEDERAL COMMUNICATIONS COMMISSION

[DA No. 07-2092; MB Docket No. 05-136; RM-11163, RM-11296]

Radio Broadcasting Services; Arapaho, Edmond, Oklahoma City, Ponca City, Stillwater, The Village, and Woodward, OK

AGENCY: Federal Communications Commission.

ACTION: Notice.

SUMMARY: The Report and Order dismissed the Petition for Rule Making filed by Charles Crawford, proposing the allotment of Channel 251C3 at Arapaho, Oklahoma, as the community's first local service. Additionally, the Report and Order granted a counterproposal filed by Citadel Broadcasting Company, requesting the substitution of Channel 251C1 for Channel 250A at Edmond, Oklahoma, the reallotment of Channel 251C1 from Edmond to The Village, Oklahoma, as its first local service, and the modification of the Station WWLS-FM license accordingly. The Media Bureau's Consolidated Database System (CDBS) will reflect this change. See SUPPLEMENTARY INFORMATION.

DATES: Petitions for Reconsideration may be filed through August 31, 2007.

ADDRESSES: Federal Communications Commission, 445 Twelfth Street, SW., Washington, DC 20554.

FOR FURTHER INFORMATION CONTACT: Helen McLean, 202-418-2738.

SUPPLEMENTARY INFORMATION: The Report and Order, MB Docket No. 05-136, adopted March 16, 2007, and released March 18, 2007, also modified the Media Bureau's Consolidated Data Base System (CDBS) to reflect: (1) The substitution of Channel 266A for Channel 251A at Stillwater, Oklahoma and modification of the Station KVRO license accordingly; (2) substitution of Channel 264C3 for Channel 265A at Ponca City, Oklahoma and modification of the Station KPNC license; (3) substitution of Channel 263C1 for Channel 263C at Oklahoma City, Oklahoma and modification of the Station KATT-FM license. On July 2, 2007, the effective date, the Media Bureau's Consolidated Data Base System will reflect for the following stations in Oklahoma: (1) Channel 251C1 at The Village as the reserved assignment for Station WWLS-FM in lieu of Channel 250A at Edmond; (2) Channel 266A at Stillwater as the reserved assignment for Station KVRO in lieu of Channel 251A; (3) Channel 264C3 at Ponca City as the reserved assignment for Station KPNC in lieu of Channel 265A; and (4) Channel 263C1 at Oklahoma City as the reserved assignment for Station KATT-FM in lieu of Channel 263C.

The complete text of this decision is available for inspection and copying during normal business hours in the Commission's Reference Center, 445 12th Street, SW., Washington, DC 20554. The complete text of this decision may also be purchased from the Commission's duplicating contractor, Best Copy and Printing, Inc., 445 12th Street, SW., Room CY-B402, Washington, DC 20554, telephone 1-800-378-3160 or http://www.BCPIWEB.com.

Federal Communications Commission.
John A. Karousos,
Assistant Chief, Audio Division, Media Bureau.

[FR Doc. E7-14871 Filed 7-31-07; 8:45 am]

BILLING CODE 6712-01-P